DEPARTMENT OF HEALTH AND HUMAN SERVICES

National Institutes of Health

National Institute on Aging; Notice of Meetings

Pursuant to section 10(d) of the Federal Advisory Committee Act, as amended, notice is hereby given of a meeting of the Board of Scientific Counselors, NIA.

The meeting will be open to the public as indicated below, with attendance limited to space available. Individuals who plan to attend and need special assistance, such as sign language interpretation or other reasonable accommodations, should notify the Contact Person listed below in advance of the meeting.

The meeting will be closed to the public as indicated below in accordance with the provisions set forth in sections 552b(c)(4) and 552b(c)(6), Title 5 U.S.C., as amended for the review, discussion, and evaluation of individual intramural programs and projects conducted by the NATIONAL INSTITUTE ON AGING, including consideration of personnel qualifications and performance, and the competence of individual investigators, the disclosure of which would constitute a clearly unwarranted invasion of personal privacy.

Name of Committee: Board of Scientific Counselors, NIA.

Date: October 22-23, 2019.

Closed: October 22, 2019, 8:00 a.m. to 9:00 a.m.

Agenda: To review and evaluate personnel qualifications and performance, and competence of individual investigators.

Place: National Institute on Aging, Biomedical Research Center, 251 Bayview Boulevard, Baltimore, MD 21224.

Open: October 22, 2019, 9:00 a.m. to 12:30 p.m.

Agenda: Committee discussion, individual presentations, laboratory overview.

Place: National Institute on Aging, Biomedical Research Center, 251 Bayview Boulevard, Baltimore, MD 21224.

Closed: October 22, 2019, 12:30 p.m. to 2:50 p.m.

Agenda: To review and evaluate personnel qualifications and performance, and competence of individual investigators.

Place: National Institute on Aging, Biomedical Research Center, 251 Bayview Boulevard, Baltimore, MD 21224.

Open: October 22, 2019, 2:50 p.m. to 3:50 p.m.

Agenda: Committee discussion, individual presentations, laboratory overview.

Place: National Institute on Aging, Biomedical Research Center, 251 Bayview Boulevard, Baltimore, MD 21224.

Closed: October 22, 2019, 3:50 p.m. to 6:30 p.m.

Agenda: To review and evaluate personnel qualifications and performance, and competence of individual investigators.

Place: National Institute on Aging, Biomedical Research Center, 251 Bayview Boulevard, Baltimore, MD 21224.

Closed: October 23, 2019, 8:00 a.m. to 8:30 a.m.

Agenda: To review and evaluate personnel qualifications and performance, and competence of individual investigators.

Place: National Institute on Aging, Biomedical Research Center, 251 Bayview Boulevard, Baltimore, MD 21224.

Open: October 23, 2019, 8:30 a.m. to 12:00 p.m.

Agenda: Committee discussion, individual presentations, laboratory overview.

Place: National Institute on Aging, Biomedical Research Center, 251 Bayview Boulevard, Baltimore, MD 21224.

Closed: October 23, 2019, 12:00 p.m. to 2:00 p.m.

Agenda: To review and evaluate personnel qualifications and performance, and competence of individual investigators.

Place: National Institute on Aging, Biomedical Research Center, 251 Bayview Boulevard, Baltimore, MD 21224.

Contact Person: Luigi Ferrucci, MD, Ph.D., Scientific Director, National Institute On Aging, 251 Bayview Boulevard, Suite 100, Room 4C225, Baltimore, MD 21224, 410-558-8110, lf27z@nih.gov.

(Catalogue of Federal Domestic Assistance Program Nos. 93.866, Aging Research, National Institutes of Health, HHS)

Dated: September 6, 2019.
Program Analyst, Office of Federal Advisory Committee Policy.

[FR Doc. 2019-19690 Filed 9-11-19; 8:45 am]

BILLING CODE 4140-01-P